SOCIAL SECURITY ADMINISTRATION

[Docket No: SSA-2020-0064]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

OMB) Office of Management and Budget, Attn: Desk Officer for SSA.

Comments: https://www.reginfo.gov/public/do/PRAMain. Find this particular information collection by selecting “Currently under 60-day Review—Open for Public Comments” or by using the search function.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2020-0064].

The information collections below are pending at SSA. SSA will submit them to OMB within 60 days from the date of this notice. To be sure we consider your comments, we must receive them no later than March 1, 2021. Individuals can obtain copies of the collection instruments by writing to the above email address.

1. Letter to Employer Requesting Information About Wages Earned By Beneficiary—20 CFR 404.1520, 20 CFR 404.1571-404.1576, 20 CFR 404.1584-404.1593, and 20 CFR 416.971-416.976—0960-0034. Social Security disability recipients receive payments based on their inability to engage in substantial gainful activity (SGA) because of a physical or mental condition. If the recipients work, SSA must evaluate if they continue to meet the disability requirements of the law. When an individual is unable to provide earnings information and SSA does not have access to proof of earnings, we use Form SSA-L-725 to request monthly earnings information from the recipient's employer. SSA employees send the paper from SSA-L725 to the employer to complete, and use the earnings data we receive from the employers to determine whether the recipient is engaging in SGA, since work above SGA level can cause a cessation of disability payments. The respondents are businesses that employ Social Security disability recipients.

Type of Request: Revision of an OMB-approved information collection.

Modality of completion | Number of respondents | Frequency of response | Average burden per response (minutes) | Estimated total annual burden (hours) | Average theoretical hourly cost amount (dollars) * | Total annual opportunity cost (dollars) ***
SSA-L725 | 170,000 | 1 | 40 | 113,333 | * $22.79 | ** $2,582,859
* We based this figure on the average Payroll and Timekeeping Clerks hourly salary, as reported by Bureau of Labor Statistics data (https://www.bls.gov/oes/current/oes433051.htm).
** This figure does not represent actual costs that SSA is imposing on recipients of Social Security payments to complete this application; rather, these are theoretical opportunity costs for the additional time respondents will spend to complete the application. There is no actual charge to respondents to complete the application.

2. Letter to Employer Requesting Wage Information—20 CFR 416.203 & 416.1110—0960-0138. SSA must establish and verify wage information for Supplemental Security Income (SSI) applicants and recipients when determining SSI eligibility and payment amounts. SSA collects wage data from employers on Form SSA-L4201 to determine eligibility and proper payment amounts for SSI applicants and recipients. The respondents are employers of SSI applicants and recipients.

Type of Request: Revision of an OMB-approved information collection.

Modality of completion | Number of respondents | Frequency of response | Average burden per response (minutes) | Estimated total annual burden (hours) | Average theoretical hourly cost amount (dollars) * | Total annual opportunity cost (dollars) ***
SSA-L4201 | 133,000 | 1 | 30 | 66,500 | * $22.79 | ** $1,515,535
* We based this figure on the average Payroll and Timekeeping Clerks hourly salary, as reported by Bureau of Labor Statistics data (https://www.bls.gov/oes/current/oes433051.htm).
** This figure does not represent actual costs that we are imposing on recipients of Social Security payments to complete this application; rather, these are theoretical opportunity costs for the additional time respondents will spend to complete the application. There is no actual charge to respondents to complete the application.

3. Request for Review of Hearing Decision/Order—20 CFR 404.967-404.981, 416.1467-416.1481—0960-0277. Claimants have a right under current regulations to request review of an administrative law judge's (ALJ) hearing decision, or dismissal of a hearing request on Title II and Title XVI claims. Claimants may request Appeals Council review by filing a written request using paper Form HA-520, or the internet application, i520. SSA uses the information we collect to establish the claimant filed the request for review within the prescribed time, and to ensure the claimant completed the requisite steps permitting the Appeals Council review. The Appeals Council then uses the information to: (1) Document the claimant's reason(s) for disagreeing with the ALJ's decision or dismissal; (2) determine whether the claimant has additional evidence to submit; and (3) determine whether the claimant has a representative or wants to appoint one. The respondents are claimants requesting review of an ALJ's decision or dismissal of hearing.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
HA-520—Paper | 105,000 | 1 | 10 | 17,500 | * $10.73 | ** 24 | *** $638,435
i520—Internet | 70,000 | 1 | 15 | 17,500 | * 10.73 |  | *** 187,775
Totals | 175,000 |  |  | 35,000 |  |  | *** 826,210
* We based this figure on average DI payments based on SSA's current FY 2020 data (https://www.ssa.gov/legislation/2020Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Social Security Benefits Application—20 CFR 404.310-404.311, 404.315-404.322, 404.330-404.333, 404.601-404.603, and 404.1501-404.1512—0960-0618. Title II of the Social Security Act provides retirement, survivors, and disability benefits to individuals who meet the eligibility criteria and file the appropriate application. This collection comprises the various application methods for each type of benefits. SSA uses the information we gather through the multiple information collection tools in this information collection request to determine applicants' eligibility for specific Social Security benefits, as well as the amount of the benefits. Individuals filing for disability benefits can, and in some instances SSA may require them to, file applications under both Title II, Social Security disability benefits, and Title XVI, SSI payments. We refer to disability applications filed under both titles as “concurrent applications.” This collection comprises the various application methods for each type of benefits. These methods include the following modalities: Paper forms (Forms SSA-1, SSA-2, and SSA-16); Modernized Claims System (MCS) screens for in-person interview applications; and internet-based iClaim application. SSA uses the information we collect through these modalities to determine: (1) The applicants' eligibility for the above-mentioned Social Security benefits and (2) the amount of the benefits. The respondents are applicants for retirement, survivors, and disability benefits under Title II of the Social Security Act, or their representative payees.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1
Paper version/SSA-1 | 1,811 | 1 | 11 | 332 | * $25.72 | ** 24 | *** $27,160
Interview/MCS | 1,438,058 | 1 | 10 | 239,676 | * 25.72 | ** 24 | *** 20,959,202
Internet/iClaim—Domestic Residence:
First Party | 1,422,954 | 1 | 15 | 355,739 | * 25.72 | ** 24 | *** 9,149,607
Third party initiated (complete and submit) | 25,255 | 1 | 15 | 6,314 | * 25.72 | ** 24 | *** 162,396
First party (review and sign) | 25,255 | 1 | 5 | 2,105 | * 25.72 | ** 24 | *** 54,141
Internet/iClaim—Foreign Residence:
First Party | 10,309 | 1 | 18 | 3,093 | * 25.72 | ** 24 | *** 79,552
Third party-initiated (complete and submit) | 18,826 | 1 | 18 | 5,648 | * 25.72 | ** 24 | *** 145,267
First party (review and sign) | 18,826 | 1 | 8 | 2,510 | * 25.72 | ** 24 | *** 64,557
Totals | 2,961,294 |  |  | 615,417 |  |  | *** 30,641,882
SSA-2
Paper version/SSA-2 | 972 | 1 | 15 | 243 | * 25.72 | ** 24 | *** 15,792
Interview/MCS | 447,610 | 1 | 14 | 104,442 | * 25.72 | ** 24 | *** 7,291,260
iClaim | 153,780 | 1 | 15 | 38,445 | * 25.72 | ** 24 | *** 988,805
Totals | 602,362 |  |  | 143,130 |  |  | *** 8,295,857
SSA-16
Paper version/SSA-16 | 40,346 | 1 | 20 | 13,449 | * 25.72 | ** 24 | *** 760,978
Interview/MCS | 1,159,121 | 1 | 19 | 367,055 | * 25.72 | ** 24 | *** 21,365,681
Internet/iClaim—Domestic Residence:
First Party | 926,750 | 1 | 15 | 231,688 | * 25.72 | ** 24 | *** 5,959,015
Third party initiated (complete and submit) | 343,327 | 1 | 15 | 85,832 | * 25.72 | ** 24 | *** 2,207,599
First party (review and sign) | 343,327 | 1 | 5 | 28,611 | * 25.72 | ** 24 | *** 735,875
Internet/iClaim—Foreign Residence:
First Party | 1,441 | 1 | 18 | 432 | * 25.72 | ** 24 | *** 11,111
Third party-initiated (complete and submit) | 123 | 18 | 18 | 37 | * 25.72 | ** 24 | *** 952
First party (review and sign) | 123 | 18 | 8 | 16 | * 25.72 | ** 24 | *** 412
Totals | 2,814,558 |  |  | 727,120 |  |  | ** 31,041,623
Grand Total
Total | 6,378,214 |  |  | 1,485,667 |  |  | *** 69,979,362
* We based this figure on the average hourly wage for all occupations in May 2019 as reported by the U.S. Bureau of Labor Statistics (https://www.bls.gov/oes/current/oes_nat.htm#00-0000).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

5. Authorization to Disclose Information to SSA—20 CFR 404.1512 and 416.912, 45 CFR parts 160 and 164—0960-0623. Sections 223(d)(5)(A) and 1614(a)(3)(H)(i) of the Act require claimants to provide medical and other evidence the Commissioner of Social Security may require to prove they are disabled. SSA must obtain sufficient evidence to make eligibility determinations for Title II and Title XVI payments. The applicants use Form SSA-827, or the internet counterpart, i827, to provide consent for the release of medical records, education records, and other information related to their ability to perform tasks. Once the applicant completes Form SSA-827, or the i827, SSA or the State DDS sends the form to the designated source(s) to obtain pertinent records. The respondents are applicants for Title II and Title XVI disability payments.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-827 with electronic signature (eAuthorization) | 2,354,946 | 1 | 9 | 353,242 | * $10.73 | ** 24 | $13,897,711
SSA-827 with wet signature (paper version) | 3,408,106 | 1 | 10 | 568,018 | * 10.73 | ** 24 | *** 20,722,424
iClaims with electronic signature | 404,690 | 1 | 9 | 60,704 | * 10.73 |  | *** 651,354
iAppeals with electronic signature | 176,202 | 1 | 9 | 26,430 | * 10.73 |  | *** 283,594
Totals | 6,343,944 |  |  | 1,008,394 |  |  | *** 35,555,083
* We based this figure on average DI payments based on SSA's current FY 2020 data (https://www.ssa.gov/legislation/2020Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

6. State Death Match Collections—20 CFR 404.301, 404.310-404.311, 404.316, 404.330-404.341, 404.350-404.352, 404.371, and 416.912—0960-0700. SSA uses the State Death Match Collections to ensure the accuracy of payment files by detecting unreported or inaccurate reports of death of beneficiaries. Under the Act, entitlement to retirement, disability, wife's, husband's, or parent's benefits terminate when the beneficiary dies. The states furnish death certificate information to SSA via the manual registration process or the Electronic Death Registration Process (EDR). Both death match processes are electronic transfers between the states and SSA. The respondents are the states' bureaus of vital statistics.

Type of Request: Revision of an OMB-approved information collection.

Modality of completion | Number of respondents | Frequency of response | Number of responses | Average cost per record request | Estimated total annual burden (hours) | Average theoretical hourly cost amount (dollars) ** | Total annual opportunity cost (dollars) ***
State Death Match CyberFusion/GSO: Non-EDR Records from EDR sites | 39 | 68,621 | 2,676,219 | $0.88 | $2,355,072 | ** $21.09 | *** $1,447,217
State Death Match CyberFusion/GSO: Non-EDR sites | 5 | 187,570 | 937,850 | 0.88 | 825,308 | ** 21.09 | *** 3,955,851
Total: Non-EDR | 44 |  |  |  | 3,180,380 |  | 5,403,068
State Death Match—EDR | 48 | 2,573,956 | 123,549,888 | 2.05 | 253,277,270 | ** 21.09 | *** 54,284,732
States Expected to Become—State Death Match—EDR Within the Next 3 Years | 5 | 62,600 | 313,000 | 3.17 | 992,210 | ** 21.09 | *** 1,320,234
Totals: EDR and Expected EDR | 53 |  |  |  | 254,269,480 |  | *** 55,604,966
Grand Totals | 97 |  |  |  | 257,449,860 |  | *** 61,008,034
* Please note that both of these data matching processes are electronic and there is only a cost burden, and no hourly burden for the respondent to provide this information.
** We based this figure on the average State BVSs hourly wages, as reported by Bureau of Labor Statistics data (https://www.bls.gov/oes/current/oes434199.htm).
*** This figure does not represent actual costs that SSA is imposing on recipients of Social Security payments to complete this application; rather, these are theoretical opportunity costs for the additional time respondents will spend to complete the application. There is no actual charge to respondents to complete the application.

Dated: December 22, 2020.
Naomi Sipple,
Reports Clearance Officer, Social Security Administration.

[FR Doc. 2020-28797 Filed 12-29-20; 8:45 am]

BILLING CODE 4191-02-P